DEPARTMENT OF THE INTERIOR

Bureau of Reclamation

[RR04093000, XXXR4081G3, RX.05940913.FY19400]

Public Meeting of the Glen Canyon Dam Adaptive Management Work Group

AGENCY: Bureau of Reclamation, Interior.

ACTION: Notice of public meeting.

SUMMARY: In accordance with the Federal Advisory Committee Act of 1972, the Bureau of Reclamation (Reclamation) is publishing this notice to announce that a Federal Advisory Committee meeting of the Glen Canyon Dam Adaptive Management Work Group (AMWG) will take place.

DATES: The meeting will be held on Wednesday, May 22, 2019, via WebEx/conference call beginning at 9:00 a.m. (MDT) and concluding four (4) hours later in the respective time zones.

ADDRESSES: See SUPPLEMENTARY INFORMATION section for Webex address and information.

FOR FURTHER INFORMATION CONTACT: Kathleen Callister, Bureau of Reclamation, telephone (801) 524-3781; email at kcallister@usbr.gov; facsimile (801) 524-5499.

SUPPLEMENTARY INFORMATION: This meeting is being held under the provisions of the Federal Advisory Committee Act of 1972 (5 U.S.C., Appendix, as amended), the Government in the Sunshine Act of 1976 (5 U.S.C. 552B, as amended), and 41 CFR 102-3.140 and 102-3.150.

Purpose of the Meeting: The Glen Canyon Dam Adaptive Management Program (GCDAMP) was implemented as a result of the Record of Decision on the Operation of Glen Canyon Dam Final Environmental Impact Statement to comply with consultation requirements of the Grand Canyon Protection Act (Pub. L. 102-575) of 1992. The AMWG makes recommendations to the Secretary of the Interior concerning Glen Canyon Dam operations and other management actions to protect resources downstream of Glen Canyon Dam, consistent with the Grand Canyon Protection Act. The AMWG meets two to three times a year.

Agenda: The AMWG will meet to receive updates on: (1) GCDAMP budget and workplan for fiscal year 2020; (2) planned or ongoing experiments in 2019; and (3) current basin hydrology and reservoir operations. The AMWG will also discuss other administrative and resource issues pertaining to the GCDAMP. To view a copy of the agenda and documents related to the above meeting, please visit Reclamation's website at https://www.usbr.gov/uc/progact/amp/amwg.html.

Meeting Accessibility/Special Accommodations: The meeting is open to the public. Individuals requiring special accommodations to access the public meeting should contact Kathleen Callister, Bureau of Reclamation, Upper Colorado Regional Office, by email at kcallister@usbr.gov, or by telephone at (801) 524-3781, at least (5) business days prior to the meeting so that appropriate arrangements can be made. To participate in the WebEx/conference call, please use the instructions below. There will be limited ports available, so if you wish to participate, please contact Tara Ashby at (801) 524-3776 to register.

WebEx Information:

1. Go to: https://ucbor-events.webex.com/ucbor-events/onstage/g.php?MTID=e16c5978b6a558d663fbd47a2ecc8dea8

2. If requested, enter your name and email address.

3. If a password is required, enter the meeting password: AMWG.

4. Click “Join Now”.

Audio Conference Information:

• Phone Number: (877) 913-4721.

• Passcode: 3330168.

• Event Number: 823 039 379.

Public Disclosure of Comments: Time will be allowed for any individual or organization wishing to make formal oral comments. To allow for full consideration of information by the AMWG members, written notice must be provided to Kathleen Callister, Bureau of Reclamation, Upper Colorado Regional Office, 125 South State Street, Room 8100, Salt Lake City, Utah 84138; email at kcallister@usbr.gov; or facsimile (801) 524-5499, at least five (5) business days prior to the meeting. Any written comments received will be provided to the AMWG members.

Before including your address, phone number, email address, or other personal identifying information in your comment, you should be aware that your entire comment—including your personal identifying information—may be made publicly available at any time. While you can ask us in your comment to withhold your personal identifying information from public review, we cannot guarantee that we will be able to do so.

Dated: March 27, 2019.
Kathleen Callister,
Division Manager, Resource Management Division, Upper Colorado Regional Office.

[FR Doc. 2019-09255 Filed 5-6-19; 8:45 am]

BILLING CODE 4332-90-P